DEPARTMENT OF COMMERCE

National Oceanic and Atmospheric Administration

[RTID 0648-XD227]

Marine Mammals; File No. 27155

AGENCY: National Marine Fisheries Service (NMFS), National Oceanic and Atmospheric Administration (NOAA), Commerce.

ACTION: Notice; receipt of application.

SUMMARY: Notice is hereby given that Jamie Lloyd-Smith, Ph.D., University of California, Los Angeles, 610 Charles E. Young Dr. South, Los Angeles, CA 90095, has applied in due form for a permit to conduct research on California sea lions (Zalophus californianus).

DATES: Written, telefaxed, or email comments must be received on or before September 13, 2023.

ADDRESSES: The application and related documents are available for review by selecting “Records Open for Public Comment” from the “Features” box on the Applications and Permits for Protected Species (APPS) home page, https://apps.nmfs.noaa.gov, and then selecting File No. 27155 from the list of available applications. These documents are also available upon written request via email to NMFS.Pr1Comments@noaa.gov.

Written comments on this application should be submitted via email to NMFS.Pr1Comments@noaa.gov. Please include File No. 27155 in the subject line of the email comment.

Those individuals requesting a public hearing should submit a written request via email to NMFS.Pr1Comments@noaa.gov. The request should set forth the specific reasons why a hearing on this application would be appropriate.

FOR FURTHER INFORMATION CONTACT: Sara Young or Shasta McClenahan, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant requests a 5-year research permit to take California sea lions to study the disease ecology of Leptospira along the coast of California, Oregon, and Washington. Up to 20,675 California sea lions may be taken annually including 515 captured and sampled, 100 salvage of biological sampling of naturally deceased animals, 60 disentanglements, and 20,000 unintentional harassments. Animals captured would be restrained, anesthetized, measured, marked (including hot brand of non-pups in Oregon), instrumented, and sampled. Up to 5,000 northern elephant seals (Mirounga angustirostris), 100 Steller sea lions (Eastern distinct population segment; Eumetopias jubatus), 2,000 northern fur seals (Callorhinus ursinsus), 10 threatened Guadalupe fur seals (Arctocephalus townsendi), and 100 Pacific harbor seals (Phoca vitulina) may be unintentionally harassed annually during research. The applicant requests up to six unintentional mortalities of California sea lions over the duration of the permit, with no more than two annually.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 3, 2023.
Julia M. Harrison,
Chief, Permits and Conservation Division, Office of Protected Resources, National Marine Fisheries Service.

[FR Doc. 2023-17299 Filed 8-11-23; 8:45 am]

BILLING CODE 3510-22-P